DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than June 11, 2018.

Interested persons are invited to submit written comments regarding the subject matter of the investigations to the Director, Office of Trade Adjustment Assistance, at the address shown below, not later than June 11, 2018.

The petitions filed in this case are available for inspection at the Office of the Director, Office of Trade Adjustment Assistance, Employment and Training Administration, U.S. Department of Labor, Room N-5428, 200 Constitution Avenue NW, Washington, DC 20210.

Signed at Washington, DC, this 4th day of April 2018.
Hope D. Kinglock,
Certifying Officer, Office of Trade Adjustment Assistance.

Appendix

115 TAA Petitions Instituted Between 2/26/18 and 3/30/18
TA-W | Subject firm (petitioners) | Location | Date of institution | Date of petition
93575 | ACE Limited/Chubb Corporation (State/One-Stop) | Simsbury, CT | 02/26/18 | 02/26/18
93576 | Ann Taylor, Inc. (State/One-Stop) | Milford, CT | 02/26/18 | 02/23/18
93577 | Tech Mahindra Americas Inc. for AT&T (State/One-Stop) | Mount Clemens, MI | 02/26/18 | 02/23/18
93578 | Tower International—Clinton Plant (Company) | Clinton Township, MI | 02/26/18 | 02/23/18
93579 | APTIM and Securitas Critical Infrastructure Services (State/One-Stop) | Metropolis, IL | 02/27/18 | 02/26/18
93580 | Centurylink (Workers) | Jefferson City, MO | 02/27/18 | 02/22/18
93581 | Danfoss LLC (State/One-Stop) | Mountainside, NJ | 02/27/18 | 02/26/18
93582 | Ericsson (State/One-Stop) | Plano, TX | 02/27/18 | 02/27/18
93583 | Health Care Service Corporation (Workers) | Naperville, IL | 02/27/18 | 02/26/18
93584 | Ledvance LLC f/k/a Osram Sylvania (State/One-Stop) | St. Marys, PA | 02/27/18 | 02/27/18
93585 | Lufkin Industries a subsidiary of GE Oil & Gas (State/One-Stop) | Lufkin, TX | 02/27/18 | 02/27/18
93586 | West Corporation (State/One-Stop) | Omaha, NE | 02/27/18 | 02/26/18
93587 | Gerdau Ameristeel U.S. Inc. (State/One-Stop) | Tampa, FL | 02/28/18 | 02/27/18
93588 | Tridien Medical (Company) | Corona, CA | 02/28/18 | 01/31/18
93589 | Trelleborg Sealing Profiles U.S. Inc. (Company) | Bristol, IN | 03/01/18 | 02/28/18
93590 | Optoplex Corporation (State/One-Stop) | Fremont, CA | 03/01/18 | 02/27/18
93591 | LexisNexis (State/One-Stop) | Colorado Springs, CO | 03/01/18 | 02/28/18
93592 | Ardagh Glass Inc. (Union) | Milford, MA | 03/02/18 | 02/20/18
93593 | Dex Media Inc dba DexYP (State/One-Stop) | Tucker, GA | 03/02/18 | 03/01/18
93594 | Kellogg Company (State/One-Stop) | Battle Creek, MI | 03/02/18 | 03/01/18
93595 | Klockner Metals (State/One-Stop) | Houston, TX | 03/02/18 | 03/01/18
93596 | Lee Enterprises—Lincoln Journal Star (State/One-Stop) | Lincoln, NE | 03/02/18 | 03/01/18
93597 | Ryerson Steel (State/One-Stop) | Houston, TX | 03/02/18 | 03/01/18
93598 | SimplexGrinnell (State/One-Stop) | Westminister, MA | 03/02/18 | 02/27/18
93599 | Wyman Gordon (State/One-Stop) | Worcester, MA | 03/02/18 | 02/27/18
93600 | AECOM (State/One-Stop) | Glen Allen, VA | 03/05/18 | 03/02/18
93601 | Software Galaxy Systems (including other Leased Worker Firms) (State/One-Stop) | Lewistown, PA | 03/05/18 | 03/02/18
93602 | Grays Harbor Community Hospital (Workers) | Aberdeen, WA | 03/05/18 | 02/26/18
93603 | North American Stainless (State/One-Stop) | Minooka, IL | 03/05/18 | 03/02/18
93604 | Qiagen LLC (formerly Qiaqen Inc.) (Workers) | Germantown, MD | 03/05/18 | 03/01/18
93605 | ATI Allegheny Ludlum, Inc. (State/One-Stop) | New Bedford, MA | 03/06/18 | 03/02/18
93606 | Cuddledown, Inc. (State/One-Stop) | Yarmouth, ME | 03/06/18 | 03/05/18
93607 | Duvaltex (US) Inc. (Company) | Elkin, NC | 03/06/18 | 03/05/18
93608 | Elbeco Incorporated (Company) | Frackville, PA | 03/06/18 | 03/05/18
93609 | Lincare (Company) | Clearwater, FL | 03/06/18 | 03/05/18
93610 | Littler Diecast (Workers) | Albany, IN | 03/06/18 | 03/04/18
93611 | Parker Hannifin Corporation (State/One-Stop) | Irvine, CA | 03/06/18 | 03/05/18
93612 | Russell Stovers Candies (State/One-Stop) | Ruther Glen, VA | 03/06/18 | 03/05/18
93613 | Zareba Systems, Inc. (State/One-Stop) | Ellendale, MN | 03/06/18 | 03/05/18
93614 | Xylem Inc. (State/One-Stop) | Seneca Falls, NY | 03/06/18 | 03/05/18
93615 | Byer Steel (State/One-Stop) | Cincinnati, OH | 03/07/18 | 03/06/18
93616 | GCL Solar Materials US I, LLC (Company) | Portland, OR | 03/07/18 | 03/06/18
93617 | ADM Milling Co. (State/One-Stop) | Lincoln, NE | 03/08/18 | 03/07/18
93618 | AES (Dayton Power Light) (State/One-Stop) | Dayton, OH | 03/08/18 | 03/06/18
93619 | AES Ohio Generation (State/One-Stop) | Aberdeen, OH | 03/08/18 | 03/06/18
93620 | Jewel Acquisition, LLC (State/One-Stop) | Louisville, OH | 03/08/18 | 03/06/18
93621 | DaVita Clinical Research (State/One-Stop) | Lakewood, CO | 03/08/18 | 03/06/18
93622 | Suntrust Mortgage (State/One-Stop) | Richmond, VA | 03/08/18 | 03/07/18
93623 | Travelers Indemnity Company (State/One-Stop) | Spokane, WA | 03/08/18 | 01/07/18
93624 | Georgia Pacific LLC (Union) | Camas, WA | 03/09/18 | 03/08/18
93625 | Titan Wheel Corporation (State/One-Stop) | Saltville, VA | 03/09/18 | 03/08/18
93626 | C.I. Thornburg Company (Union) | Huntington, WV | 03/12/18 | 03/09/18
93627 | Lord Corporation (State/One-Stop) | Erie, PA | 03/12/18 | 03/11/18
93628 | Northstar Aerospace (State/One-Stop) | Duluth, MN | 03/12/18 | 03/08/18
93629 | OP Schuman and Sons, Inc. (Union) | Warrington, PA | 03/12/18 | 03/09/18
93630 | Pharmaceutics International Inc. (State/One-Stop) | Hunt Valley, MD | 03/12/18 | 03/08/18
93631 | Astoria Warehousing (State/One-Stop) | Astoria, OR | 03/13/18 | 03/12/18
93632 | ConfluentÂ Medical Technologies (Company) | Sunnyvale, CA | 03/13/18 | 03/12/18
93633 | FranklinÂ Electric, Co., Inc. (Workers) | Gas City, IN | 03/13/18 | 03/11/18
93634 | LexisNexis (State/One-Stop) | Kettering, OH | 03/13/18 | 03/12/18
93635 | NorthropÂ GrummanÂ SystemsÂ Corporation (State/One-Stop) | Little Rock, AR | 03/13/18 | 03/12/18
93636 | Technicolor Home Entertainment Services, Inc. (Company) | Olyphant, PA | 03/13/18 | 03/12/18
93637 | Optum Health (State/One-Stop) | Eden Prairie, MN | 03/14/18 | 03/13/18
93638 | Tech Mahindra (State/One-Stop) | South Plainfield, NJ | 03/14/18 | 03/13/18
93639 | AK Steel Corporation (State/One-Stop) | Butler, PA | 03/15/18 | 03/14/18
93640 | TE Connectivity (formerly TechDevice) (Company) | Watertown, MA | 03/15/18 | 03/13/18
93641 | Bosal Industries Georgia, Inc. (Company) | Ypsilanti, MI | 03/16/18 | 03/15/18
93642 | Fred Meyer, Inc. (State/One-Stop) | Portland, OR | 03/16/18 | 03/15/18
93643 | General Electric (Company) | Anasco, PR | 03/16/18 | 03/15/18
93644 | Greenwich Associates US Inc. (State/One-Stop) | Cheektowaga, NY | 03/16/18 | 03/14/18
93645 | Telephonics Corporation (815 Broadhollow Road, Farmingdale, NY) (State/One-Stop) | Farmingdale, NY | 03/16/18 | 03/14/18
93646 | United Technologies Electronic Controls, Inc. (State/One-Stop) | Huntington, IN | 03/16/18 | 03/14/18
93647 | Alcoa Fastening Systems (State/One-Stop) | Newbury Park, CA | 03/19/18 | 03/16/18
93648 | Boston Scientific Corporation (State/One-Stop) | Valencia, CA | 03/19/18 | 03/16/18
93649 | Genesys Technical Writer and Technical Documentation Localization (Workers) | Daly City, CA | 03/19/18 | 03/01/18
93650 | Goodyear (State/One-Stop) | Buffalo, NY | 03/19/18 | 03/16/18
93651 | IBM—Kenexa (State/One-Stop) | Lincoln, NE | 03/19/18 | 03/16/18
93652 | Startek (State/One-Stop) | Colorado Springs, CO | 03/19/18 | 03/16/18
93653 | AES Corp./DPL Inc./Dayton Power and Light (Union) | Dayton, OH | 03/20/18 | 03/19/18
93654 | AES Corp./DPL Inc./Dayton Power and Light/AES Ohio Generation LLC (Union) | Dayton, OH | 03/20/18 | 03/19/18
93655 | Allete (State/One-Stop) | Cohasset, MN | 03/20/18 | 03/16/18
93656 | Axeon Specialty Products LLC (State/One-Stop) | Paulsboro, NJ | 03/20/18 | 03/19/18
93657 | Chubb Insurance (State/One-Stop) | Warren, NJ | 03/20/18 | 03/19/18
93658 | Motorola Mobility LLC, Product Development Professionals (Workers) | Chicago, IL | 03/20/18 | 03/16/18
93659 | Sykes Enterprise (State/One-Stop) | Amherst, NY | 03/20/18 | 03/19/18
93660 | Johnson Rauhoff (State/One-Stop) | St. Joseph, MI | 03/20/18 | 03/20/18
93661 | DLH Bowles (State/One-Stop) | Canton, OH | 03/21/18 | 03/20/18
93662 | The ESAB Group Inc. (Company) | Union, SC | 03/21/18 | 03/20/18
93663 | Kerr Corporation (Company) | Romulus, MI | 03/21/18 | 03/20/18
93664 | Transamerican Auto Parts (State/One-Stop) | Compton, CA | 03/21/18 | 03/20/18
93665 | Zurn Industries, LLC (Union) | Erie, PA | 03/21/18 | 03/19/18
93666 | Trulife Inc. (Company) | Jackson, MI | 03/22/18 | 03/21/18
93667 | Cargill Meat Solutions Corp (State/One-Stop) | Wichita, KS | 03/23/18 | 03/22/18
93668 | Chemring Energetic Devices (State/One-Stop) | Torrance, CA | 03/23/18 | 03/22/18
93669 | E. I. du Pont de Nemours and Company (Union) | Deepwater, NJ | 03/23/18 | 03/22/18
93670 | Internet Brands (State/One-Stop) | Auburn Hills, MI | 03/23/18 | 03/21/18
93671 | Midway Airport Concessionaires (Workers) | Chicago, IL | 03/23/18 | 03/21/18
93672 | OSI Electronics, Inc. (State/One-Stop) | Hawthorne, CA | 03/23/18 | 03/22/18
93673 | Qualified Billing and Collections (State/One-Stop) | Los Angeles, CA | 03/23/18 | 03/21/18
93674 | Business Health Solutions, PC (State/One-Stop) | Indianapolis, IN | 03/26/18 | 03/23/18
93675 | Virgin Atlantic Airways (State/One-Stop) | Norwalk, CT | 03/26/18 | 03/23/18
93676 | CSC—Computer Sciences Corporation (State/One-Stop) | Norwich, CT | 03/27/18 | 03/23/18
93677 | Semblant (State/One-Stop) | Scotts Valley, CA | 03/27/18 | 03/23/18
93678 | North Coast Medical Inc., Customer Service Department (State/One-Stop) | Morgan Hill, CA | 03/27/18 | 03/23/18
93679 | Aviation Partners Boeing (State/One-Stop) | Seattle, WA | 03/28/18 | 03/26/18
93680 | Vixlet LLC (State/One-Stop) | Los Angeles, CA | 03/28/18 | 03/27/18
93681 | Meadville Forging Company (CNC Division) (Company) | Cambridge Springs, PA | 03/29/18 | 03/28/18
93682 | ATI Flat Rolled Products (State/One-Stop) | Vandergrift, PA | 03/29/18 | 03/29/18
93683 | Caterpillar Inc. (Company) | Waco, TX | 03/29/18 | 03/28/18
93684 | CP Crane Powerstation (State/One-Stop) | Baltimore, MD | 03/29/18 | 03/29/18
93685 | Interline Brands (Workers) | Mt Laurel, NJ | 03/29/18 | 03/28/18
93686 | CompuCom (Workers) | Fort Mill, SC | 03/30/18 | 03/29/18
93687 | JPMorgan Chase & Co. (Workers) | Louisville, KY | 03/30/18 | 03/29/18
93688 | Medtronic, PLC (Company) | Ft. Worth, TX | 03/30/18 | 03/28/18
93689 | Outokumpu (State/One-Stop) | Calvert, AL | 03/30/18 | 03/29/18

[FR Doc. 2018-11632 Filed 5-30-18; 8:45 am]

BILLING CODE 4510-FN-P